OFFICE OF MANAGEMENT AND BUDGET

Fiscal Year 2003 Tortiously Liable Third Party Medical and Dental Rates (Department of Defense)

AGENCY: Office of Management and Budget, Executive Office of the President.

ACTION: Notification of Department of Defense's Fiscal Year 2003 tortiously liable third party medical and dental rates.

SUMMARY: The Fiscal Year 2003 Department of Defense reimbursement rates are provided in accordance with Title 10, United States Code, section 1095. The medical and dental service rates in this package and at the Unformed Business Office Web site (http://www.tricare.osd.mil/ebc/rm_home/ubo_documents_rates_tables.cmf) are effective October 1, 2002.

The Medical Care Expense Recovery Act (Pub. L. 87-693) allows the Federal government to recover reasonable charges from third parties for the provision of services necessitated by a tort liability. Executive Order No. 11060 directs that the Director of the Office of Management and Budget set rates for the recovery of cost of medical care from tortiously liable third parties. These rates are used to charge third parties for the health care provided through the Defense Health System.

Mitchell E. Daniels, Jr.,
Director.

[FR Doc. 02-31024 Filed 12-6-02; 8:45 am]

BILLING CODE 3110-01-M